OFFICE OF NATIONAL DRUG CONTROL POLICY

Paperwork Reduction Act; Notice of Proposed Information Collection; Comment Request

AGENCY: Office of National Drug Control Policy (ONDCP).

ACTION: Notice.

SUMMARY: The ONDCP proposes to collect information to test the awareness, attitudes and willingness of adults 18 years and older to participate in community anti-drug coalitions, and seeks public comment on the proposed collection methods.

ADDRESSES: Written comments should be received within sixty days of this notice addressed to Terry Zobeck, Chief of the Programs and Research Branch, Executive Office of the President, Office of National Drug Control Policy, Washington, DC 20503.

FOR FURTHER INFORMATION CONTACT: Terry Zobeck, (202) 395-5503.

SUPPLEMENTARY INFORMATION:

I. Background

The National Youth Anti-Drug Media Campaign is a component within the ONDCP that is partnering with the Advertising Council to create a public service campaign that will generate awareness and involvement in local community anti-drug coalitions that mobilize communities to engage in drug prevention measures. To assist the development of the public service campaign, ONDCP proposes to obtain information to sample the awareness, attitudes and willingness of adults 18 years of age and older in order to participate in community anti-drug coalitions. The information will be used to establish a baseline for measuring changes in attitudes and awareness as a result of the public service campaign, and provide data for formative and qualitative evaluation activities. It will assess the public's exposure to and recall of advertising (within a donated media model), and measure change in attitudes about drug prevention and community anti-drug coalitions.

II. Special Issues for Comment

The agency has particular interest in comments on the following issues:

Whether the proposed collection of information is necessary for the proper performance of the functions of the agency, including whether the information will have practical utility; the accuracy of the agency's estimate of the burden of the proposed collection of information; methods to enhance quality, utility and clarity of the information to be collected; and means to minimize the burden of the collection of information on respondents, including the use of automated collection techniques.

III. Authority and Signature

Alan Levitt, Director for the National Youth Anti-Drug Media Campaign, directed the preparation of this notice. The authority for this notice is the Paperwork Reduction Act of 1995 (44 U.S.C. 3506).

Signed at Washington, DC on April 30, 2001.
Alan Levitt,
Director, National Youth Anti-Drug Media Campaign.

[FR Doc. 01-11793 Filed 5-9-01; 8:45 am]

BILLING CODE 3180-02-P